DEPARTMENT OF THE INTERIOR

Fish and Wildlife Service

Aquatic Nuisance Species Task Force Gulf of Mexico Regional Panel Meeting

AGENCY: Fish and Wildlife Service, Interior.

ACTION: Notice of meeting.

SUMMARY: This notice announces a meeting of the Aquatic Nuisance Species (ANS) Task Force Gulf of Mexico Regional Panel. The meeting topics are identified in the SUPPLEMENTARY INFORMATION section.

DATES: The Gulf of Mexico Regional Panel will meet from 8:30 a.m. to 4:30 p.m. on Wednesday, March 31, 2004, and 8:30 a.m. to 4:30 p.m. on Thursday, April 1, 2004. Minutes of the meeting will be available for public inspection during regular business hours, Monday through Friday.

ADDRESSES: The Gulf of Mexico Regional Panel meeting will be held at the Marriott Mobile, 3101 Airport Boulevard, Mobile, Alabama 36606. Phone (251) 476-6400. Minutes of the meeting will be maintained in the office of Chief, Division of Environmental Quality, U.S. Fish and Wildlife Service, Suite 322, 4401 North Fairfax Drive, Arlington, Virginia 22203-1622.

FOR FURTHER INFORMATION CONTACT: Ron Lukens, Gulf of Mexico Regional Panel Chair and Assistant Director, Gulf States Marine Fisheries Commission at (228) 875-5912 or Everett Wilson, Aquatic Nuisance Species Task Force, at 703-358-2148.

SUPPLEMENTARY INFORMATION: Pursuant to section 10(a)(2) of the Federal Advisory Committee Act (5 U.S.C. App. I), this notice announces meetings of the Aquatic Nuisance Species Task Force Gulf of Mexico Regional Panel. The Task Force was established by the Nonindigenous Aquatic Nuisance Prevention and Control Act of 1990. The Gulf of Mexico Regional Panel was established by the ANS Task Force in 1999. The Gulf of Mexico Regional Panel, comprised of representatives from Federal, State, local agencies and from private environmental and commercial interests, performs the following activities:

a. Identifies priorities for activities in the Gulf of Mexico,

b. develops and submits recommendations to the national Aquatic Nuisance Species Task Force,

c. coordinates aquatic nuisance species program activities in the Gulf of Mexico,

d. advises public and private interests on control efforts, and

e. submits an annual report to the Aquatic Nuisance Species Task Force.

The purpose of the Panel is to advise and make recommendations to the Aquatic Nuisance Species Task Force on issues relating to the Gulf of Mexico region of the United States that includes five Gulf of Mexico States: Alabama, Florida, Mississippi, Louisiana and Texas. The Gulf of Mexico Regional Panel will discuss several topics at this meeting including: a facilitated session on the panel strategic plan; a review of Panel efforts to date including adding Mexican Government membership; status reports of Florida, Alabama, Mississippi, Louisiana and Texas State ANS management plans; status reports from panel working groups; presentations on prevention activities such as the use of Hazard Analysis and Critical Control Point (HACCP) planning; the pet industry and invasive species (invited presentation); status of the Mobile Bay Rapid Assessment Project; recommendations for the ANS Task Force; and updates from Panel member organizations and states.

Dated: March 8, 2004.
Mamie A. Parker,
Co-Chair, Aquatic Nuisance Species Task Force, Assistant Director—Fisheries & Habitat Conservation.

[FR Doc. 04-5768 Filed 3-12-04; 8:45 am]

BILLING CODE 4310-55-P